INTERNATIONAL TRADE COMMISSION

[Investigation Nos. 701-TA-551-553 and 731-TA-1307-1308 (Preliminary)]

Certain New Pneumatic Off-the-Road-Tires From China, India, and Sri Lanka

Determinations

On the basis of the record ¹ developed in the subject investigations, the United States International Trade Commission (“Commission”) determines, pursuant to the Tariff Act of 1930 (“the Act”), that there is a reasonable indication that an industry in the United States is materially injured by reason of imports of certain new pneumatic off-the-road tires (“OTR tires”) from India, provided for in subheadings 4011.20.10, 4011.20.50, 4011.61.00, 4011.62.00, 4011.63.00, 4011.69.00, 4011.92.00, 4011.93.40, 4011.93.80, 4011.94.40, 4011.94.80, 8431.49.90, 8709.90.00, and 8716.90.10 ² of the Harmonized Tariff Schedule of the United States, that are allegedly sold in the United States at less than fair value (“LTFV”) and imports of OTR tires that are allegedly subsidized by the governments of India and Sri Lanka.

¹ The record is defined in sec. 207.2(f) of the Commission's Rules of Practice and Procedure (19 CFR 207.2(f)).

² OTR tires may also enter under the following HTS subheadings: 4011.99.45, 4011.99.85, 8424.90.90, 8431.20.00, 8431.39.00, 8431.49.10, 8431.49.90, 8432.90.00, 8433.90.50, 8503.00.95, 8708.70.05, 8708.70.25, 8708.70.45, and 8716.90.50.

The Commission also found that imports of OTR tires from China are negligible pursuant to section 771(24) of the Act, and its investigations with regard to imports from this country are thereby terminated pursuant to section 733(a)(1) of the Act.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (“Commerce”) of affirmative preliminary determinations in the investigations of OTR tires from India and Sri Lanka under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On January 8, 2016, Titan Tire Corporation of Des Moines, Iowa and the United Steel, Paper and Forestry, Rubber, Manufacturing, Energy, Allied Industrial and Service Workers International Union, AFL-CIO, CLC of Pittsburgh, Pennsylvania filed petitions with the Commission and Commerce, alleging that an industry in the United States is materially injured or threatened with material injury by reason of imports of OTR tires from China and India that are alleged to be sold in the United States at LTFV and imports of OTR tires alleged to be subsidized by the governments of China, India, and Sri Lanka. Accordingly, effective January 8, 2016, the Commission, pursuant to sections 703(a) and 733(a) of the Tariff Act of 1930 (19 U.S.C. 1671b(a) and 1673b(a)), instituted countervailing duty investigation Nos. 701-TA-551-553 and antidumping duty investigation Nos. 731-TA-1307-1308 (Preliminary).

Notice of the institution of the Commission's investigations and of a public conference to be held in connection therewith was given by posting copies of the notice in the Office of the Secretary, U.S. International Trade Commission, Washington, DC, and by publishing the notice in the Federal Register of January 15, 2016 (81 FR 2236). The conference was held in Washington, DC, on January 29, 2016, and all persons who requested the opportunity were permitted to appear in person or by counsel.

The Commission made these determinations pursuant to sections 703(a) and 733(a) of the Tariff Act of 1930 (19 U.S.C. 1671b(a) and 1673b(a)). It completed and filed its determinations in these investigations on February 24, 2016.³ The views of the Commission are contained in USITC Publication 4594 (March 2016), entitled Certain New Pneumatic Off-the-Road-Tires from China, India, and Sri Lanka: Investigation Nos. 701-TA-551-553 and 731-TA-1307-1308 (Preliminary).

³ The Commission has the authority to toll statutory deadlines during a period when the Federal government is closed. Because the Commission was closed on January 25 and 26, 2016 due to inclement weather in Washington, DC, the Commission tolled the statutory deadline for these investigations by two days.

By order of the Commission.
Issued: February 24, 2016.
Lisa R. Barton,
Secretary to the Commission.

[FR Doc. 2016-04400 Filed 2-29-16; 8:45 am]

BILLING CODE 7020-02-P